SELECTIVE SERVICE SYSTEM

Solicitation of Public Comments on Agency Information Quality Guidelines for Ensuring Information Quality

AGENCY: Selective Service System.

ACTION: Notice; request for public comment.

These are the Information Quality Guidelines required by the Office of Management and Budget (OMB) in implementing section 515(a) of the Treasury and Government Appropriations Act for Fiscal Year 2001, Public Law 106-554, section 515, 114 Stat. 2763, 2763A-153 (2000), reprinted at 44 U.S.C.A. 3516 Historical and Statutory Notes (“Data Quality Act”).

I. Background

1. The Data Quality Act requires the development of government-wide standards on the quality of governmental information disseminated to the public. It directs the Director of OMB to issue guidelines under the Paperwork Reduction Act (PRA), 44 U.S.C. 3504(d)(1) and 3516, providing guidance to Federal agencies “for ensuring and maximizing the quality, objectivity, utility, and integrity of information (including statistical information) disseminated by Federal agencies in fulfillment of the provisions of [the PRA].” The Data Quality Act states that OMB guidelines shall apply to sharing by agencies of and access to information disseminated by agencies (section 515(b)(1)); requires agencies to issue their own guidelines (section 515(b)(2)(A)); and requires agencies to establish administrative mechanisms allowing affected persons to seek and obtain correction of information maintained and disseminated by an agency that does not comply with OMB guidelines (section 515(b)(2)(B)). Finally, the statute requires periodic reports by agencies to OMB concerning the number of complaints filed and how the complaints were handled (section 515(b)(2)(C)).

2. OMB's guidelines implementing the Data Quality Act require each agency to publish in the Federal Register a notice of the availability of the agency's draft information quality guidelines. After considering public comment, agencies are required to provide OMB with appropriately revised draft guidelines by July 1, 2002. Finally, by October 1, 2002, agencies must publish in the Federal Register a notice that the agency's final guidelines are available on the Internet. In accordance with these requirements, the Selective Service System (hereafter identified as the SSS) makes available its Draft Information Quality Guidelines, set forth in Appendix A, for public review and comment between June 1, 2002 to June 28, 2002.

II. Summary of the Proposed Guidelines

1. SSS' draft guidelines substantially follow the provisions of the OMB Guidelines. First, the OMB Guidelines interpret many key statutory terms, such as “information,” “disseminate,” “quality,” “objectivity,” “utility,” and “integrity.”

2. SSS also proposes procedures for reviewing and substantiating the quality, objectivity, utility, and integrity of information before it is disseminated by the SSS. SSS seeks comment on whether any variations may be necessary because of the nature of the SSS' practice and procedures.

3. The Data Quality Act and OMB Guidelines require that SSS establishes an administrative mechanism to allow affected persons to seek and obtain correction of information maintained and disseminated by the agency that does not comply with the OMB or SSS guidelines. SSS' proposal provides that initial complaints are to be filed with a central office in the SSS that assigns the complaint to the Office where the information dissemination product in question originated. The Data Quality Act permits only “affected persons” to file complaints. SSS therefore proposes requiring that an information quality complaint contain a description of how a person is affected by the information dissemination product alleged to violate OMB or SSS guidelines.

4. The OMB Guidelines require that agencies set time limits for action on complaints. SSS proposes that the relevant Office should respond to initial complaints within 60 days. As provided in the OMB Guidelines, the Office handling the initial complaint will respond in a manner appropriate to the nature and extent of the complaint. Inconsequential, trivial, or frivolous complaints may require no response at all. SSS may also reject complaints made in bad faith or without justification. SSS proposes that if a complaint requires corrective action, the appropriate level of correction shall occur within 60 days of the decision on the complaint. The OMB Guidelines require that persons who do not agree with the initial decision be afforded the opportunity to seek administrative review of that decision. The proposed procedures provide that applications for review should be presented to the Selective Service System for determination. SSS' proposed procedures provide that action on applications for review should occur within 120 days. Where warranted, the SSS may deny applications for review without providing reasons. SSS seeks comment on the proposed procedures.

III. Procedural Matters and Ordering Paragraphs

1. Comment Filing. The OMB Guidelines require that upon consideration of public comments and after appropriate revision, SSS must submit a draft of final agency guidelines to OMB by July 1, 2002. Interested parties may file written comments on or before June 28, 2002.

2. Parties interested in commenting on these Draft Information Quality Guidelines must submit written comments on or before June 28, 2002. Hand-delivered or messenger-delivered comments, including comments sent by mail must be addressed to Selective Service System, Office of Public and Congressional Affairs, 1515 Wilson Blvd., Arlington, Virginia, 22209-2425. This location is open 8 a.m. to 5:30 p.m.

3. Parties wishing to submit written comments by electronic mail should address them to Information@sss.gov with a subject line that notes that this electronic communication contains comments on the SSS's Draft Information Quality Guidelines.

4. All relevant and timely comments will be considered before these guidelines are finalized.

5. Ex Parte. This proceeding is deemed exempt for purposes of the ex parte rules.

6. Further Information. For further information, contact the Selective Service System, Office of Public & Congressional Affairs, 1515 Wilson Blvd., Arlington, Virginia, 22209-2425 or by e-mail to Information@sss.gov.

Appendix A

Draft Information Quality Guidelines

I. Purpose and Scope

1. The Selective Service System (hereafter identified as the SSS) is publishing these guidelines to ensure and maximize the quality, objectivity, utility, and integrity of specific types of information it disseminates, as required by section 515(a) of the Treasury and Government Appropriations Act for Fiscal Year 2001, Public Law 106-554, sec. 515, 114 Stat. 2763, 2763A-153 (2000), reprinted at 44 U.S.C.A. 3516 Historical and Statutory Notes (“Data Quality Act”).

2. The purpose of this Appendix is to describe the SSS' policy and procedures for reviewing and substantiating the quality of information before it is disseminated to the public, and to describe the SSS' administrative mechanisms allowing affected persons to seek and obtain, where appropriate, correction of information disseminated that does not comply with the Office of Management and Budget (OMB) Guidelines, Guidelines for Ensuring and Maximizing the Quality, Objectivity, Utility, and Integrity of Information Disseminated by Federal Agencies, 66 FR 49718 (Sept. 28, 2001) (interim final guidelines), and 67 FR 369 (Jan. 3, 2002) (final guidelines), corrected, 67 FR 5365 (Feb. 5, 2002), reprinted correcting errors, 67 FR 8452 (Feb. 22, 2002), or the SSS' final Information Quality Guidelines, which will be issued October 1, 2002.

3. These guidelines apply only to information disseminated by the SSS as defined in these guidelines. Other information distributed by the SSS that is not addressed by these guidelines may be subject to other SSS policies and correction procedures.

4. This document provides guidance to SSS staff and informs the public of the SSS' policies and procedures. These guidelines are not rules or regulations. They are not legally enforceable and do not create any legal rights or impose any legally binding requirements or obligations on the SSS or the public. Nothing in these guidelines affects any otherwise available judicial review of SSS action. These guidelines may not apply to a particular situation based on the circumstances, and the SSS retains discretion to adopt approaches on a case-by-case basis that differ from the guidelines where appropriate. Any decisions regarding a particular case, matter or action will be made based on applicable statutes, regulations and requirements. Interested parties are free to raise questions and objections regarding the substance of the guidelines and the appropriateness of using them in a particular situation. The SSS will consider whether or not the guidelines are appropriate in that situation. Factors such as imminent threats to public health or homeland security, statutory or court-ordered deadlines, or other time constraints, may limit or preclude applicability of these guidelines.

II. Definitions

For purposes of these guidelines, the following definitions apply:

1. Affected person means anyone (including a group, organization or corporation as defined in the Paperwork Reduction Act) who may benefit or be harmed by the publicly disseminated information, including those who are seeking to correct information about themselves and those who use the information.

2. Complaint refers to a written communication to the SSS that includes enough information so that the SSS can readily determine the specific information dissemination product the complaining party believes needs correcting, how the complaining party is affected by the information dissemination product sought to be corrected, the sections of these guidelines or the OMB Guidelines the complaining party believes have not been followed, what resolution the complaining party would like, and how to get in contact with the comment writer.

3. Data are the basic or underlying elements of information. All information dissemination products covered by these guidelines are based upon data. Additionally, covered information dissemination products may contain analysis of the data and conclusions drawn from this analysis.

4. Dissemination means SSS-initiated or sponsored distribution of information to the public. Dissemination does not include distribution limited to government employees or agency contractors or grantees; intra- or inter-agency use or sharing of government information; responses to requests for agency records under the Freedom of Information Act, the Privacy Act, or other similar laws; correspondence with individuals or persons; archival records; press releases and other non-scientific/non-statistical general, procedural, or organizational information; and public filings, subpoenas, or adjudicative processes.

5. Influential, when used in the phrase “influential scientific, financial, or statistical information,” means that the SSS can reasonably determine that dissemination of the information will have or does have a clear and substantial impact on important public policies or important private sector decisions.

6. Information means any communication or representation of knowledge such as facts or data, in any medium or form, including textual, numerical, graphic, cartographic, narrative, or audiovisual forms. This definition includes information disseminated from an Internet page, but does not include the provision of hyperlinks to information that others disseminate. This definition does not include opinions where the presentation makes it clear that what is being offered is someone's opinion rather than an official view.

7. Information dissemination product means any book, paper, map, machine-readable material, audiovisual production, or other documentary material regardless of physical form or characteristic that is covered by these guidelines and disseminated to the public as an expression of an official SSS position. This definition can include electronic documents, CD-ROMs, or web pages.

8. Integrity refers to the security of information—protection of the information from unauthorized access or revision to ensure that the information is not compromised through corruption or falsification.

9. Non-scientific/non-statistical general, procedural, or organizational information includes but is not limited to:

a. Press releases

b. Fact sheets and brochures

c. Speeches/Remarks/Presentations and their accompanying visual materials

d. Listings of:

i. Licensees, registrations, fees paid

ii. Phone directories

iii. Job openings

iv. Transcriptions or minutes (video, audio, or print) of meetings

v. Glossaries

vi. Links to non-SSS sites

vii. Standards

viii. FAQ's

e. Organizational descriptions

i. Organization charts

ii. Budget submittals

iii. Strategic and performance plans

iv. Descriptions of laws, regulations, rules that underpin SSS activities

v. Biographies

f. Applications, standards, and help products

g. Forms (for printing or on-line filing)

h. Database search results

i. How-to-file materials

j. Fee information

k. Electronic comment filings

10. Objectivity involves two distinct elements, presentation and substance. In a substantive sense objectivity means that, where appropriate, data should have full, accurate, transparent documentation; and error sources affecting data quality should be identified and disclosed to users. In a scientific, financial, or statistical context, substantive objectivity means that the original and supporting data shall be generated, and the analytic results shall be developed, using sound statistical and research methods. Presentational objectivity involves a focus on ensuring clarity, accuracy, completeness, and reliability.

11. Quality is a term encompassing utility, objectivity, and integrity. Therefore, the guidelines sometimes refer to these statutory terms, collectively, as “quality.”

12. Reproducibility means that the information is capable of being substantially reproduced, subject to an acceptable degree of imprecision. For information judged to have more influence or important impact, the degree of imprecision that is tolerated is reduced. With respect to analytic results, “capable of being substantially reproduced” means that independent analysis of the original or supporting data using identical methods would generate similar analytic results, subject to an acceptable degree of imprecision or error.

13. Transparency refers to practices of describing the data and methods used in developing an information dissemination product in a way that it would be possible for an independent re-analysis to occur by a qualified individual or organization. Transparency does not require that information be disclosed where disclosure would result in harm to other compelling interests such as privacy, trade secrets, intellectual property, confidentiality protections, or public safety.

14. Utility refers to the usefulness of the information to its intended users, including the public. In assessing the usefulness of information that the SSS disseminates to the public, the SSS will consider the uses of the information not only from the perspective of the SSS but also from the perspective of the public.

III. Pre-Dissemination Information Review and Substantiation Process

1. Beginning October 1, 2002, the following process will apply to information dissemination products distributed by the SSS to ensure and maximize the quality, objectivity, utility, and integrity of the information. The information dissemination products covered by these guidelines include reports prepared for Congress or required by legislation, such as the annual reports of services.

2. Information exempt from these guidelines includes information associated with public filings, subpoenas, or adjudicative processes; non-scientific/non-statistical general, procedural, or organizational information; information that is not initiated or sponsored by the SSS; information that expresses personal opinions rather than formal agency views; information for the primary use of federal employees (inter- or intra-agency), contractors, or grantees; responses to requests made under the Freedom of Information Act, the Privacy Act, the Federal Advisory Committee Act, or similar laws; agency correspondence; archival records; trade secrets, intellectual property, confidential data or information; and non-routine or emergency public safety information.

3. For each information dissemination product covered by these guidelines every Office shall conduct a pre-dissemination review using the standards below:

A. Quality will be demonstrated through the incorporation of a methodological section or appendix that describes, at a minimum, the design and methods used during the creation, collection, and processing of the data; the compilation and/or analysis of the data; and the pre-release review of the information dissemination product for clarity, completeness, accuracy, and reliability.

B. Objectivity will be demonstrated by including in the information dissemination product's methodology section or appendix a discussion of other scientifically, financially, or statistically responsible and reliable alternative views and perspectives, if these alternative views or perspectives are not already noted in other sections of the information dissemination product.

C. Utility will be demonstrated by the responsible Office incorporating into the methodology section or appendix examples of the use of the information dissemination product. These examples could include, but are not limited to, listing of the legislation requiring the information dissemination product or the specific request for the information dissemination product.

D. Integrity is demonstrated by the SSS' routine, day-to-day compliance across all operations and processes with relevant data protection and security sections of applicable statues and regulations and therefore does not have to be specifically addressed in information dissemination products covered by these guidelines.

IV. The Complaint and Appeals Process

1. Filing a Complaint

A. Affected persons may seek timely correction of information dissemination products maintained and distributed by the SSS that do not comply with the SSS' or OMB's guidelines by completing the Data Quality Comment form that will be found, beginning October 1, 2002, at http://www.sss.gov/dataquality. This form can be submitted electronically by clicking on the link found at the end of the form, or by printing a copy and mailing it to the Selective Service System, 1515 Wilson Blvd., Arlington, Virginia, 22209-2425.

B. Initial Correction Request.

(1) Any person affected by the information SSS publicly disseminates, as intended by Section 515, may request the timely correction of that information.

(2) Any “affected person” may submit a timely request for correction to the Office of the Director of SSS, who will direct the request to the appropriate Directorate Head for consideration.

(3) The request for correction under Section 515 and these guidelines must—

a. Be in writing;

b. Clearly explain how the person is an “affected person,” as defined by these guidelines;

c. Clearly identify the information dissemination product;

d. Clearly identify the information within that product alleged to be incorrect;

e. Suggest and explain appropriate corrective action, including the justifications for the changes or other remedial actions being sought;

f. Identify the comment writer and how to contact him or her; and

g. Be clearly marked “Information Correction Request” and addressed to: Selective Service System,1515 Wilson Blvd., Arlington, Virginia, 22209-2425. The request can also be emailed to Information@sss.gov.

(4) If the information disseminated by SSS and contested by an affected person was previously disseminated by another Federal agency in virtually identical form, then the complaint should be directed to the originating agency.

(5) Once an Information Correction Request has been received, it is SSS' intention for the Office Director (OD) to respond within 60 days, beginning at the time of SSS receipt. The OD may extend the response period for an additional 30 days if: The OD determines an extension is appropriate, and promptly provides the requestor the reasons why more time is needed. Such reasons may include the need to review multiple records encompassed by a single request, or the need to consult with other Federal agencies that have a substantial interest in the information at issue and the change being sought.

(6) Once received, the OD shall initially determine whether the request meets threshold requirements for standing, such as whether the request:

a. Is timely;

b. Is from an “affected person,” as defined in these guidelines;

c. Is appropriately directed to SSS;

d. Alleges errors in information subject to correction (i.e., implicates “information” as defined in these guidelines); or

e. Reasonably describes:

(1) The information source,

(2) The information alleged to be incorrect; and

(3) A suggested remedy, including justifications for the remedy being sought.

f. Contains information from the comment writer to facilitate his or her contact for response.

(7) If the OD determines the request does not satisfy one or more of the threshold requirements for standing, the OD will respond to the requester explaining why the request was deficient. If the request was deficient due to an insufficient description of the disseminated information source or the information alleged to be incorrect, as a matter of discretion the OD may advise the requester what additional clarification is required and provide a reasonable time for a proper clarification to be submitted. Otherwise, the OD shall determine whether the request for correction has merit, as well as the type of remedy that is most appropriate for the alleged error at issue, if proven. Given the multiple types of information that may be involved, as well as the wide range in possible levels of the information's importance, a great variety of remedies may be appropriate. The OD has discretion to implement the requester's suggested remedy, or to choose another remedy the OD deems most appropriate in the given circumstances. The OD will respond to the affected person with an explanation of the decisions that were made on both the error at issue and the remedy, if any, selected to address it.

2. Complaint Resolution

A. A determination will be made within 60 days of receipt of the complaint on whether correction is warranted.

B. The decision on appropriate corrective action will be based upon the nature and timeliness of the information dissemination product involved and such factors as the significance of the correction on the use of the information dissemination product and the magnitude of the correction. Inconsequential, trivial, or frivolous complaints may require no response at all. If corrective action is warranted, the correction will occur within 60 days of this notification to the complaining party.

C. If a correction is warranted, the appropriate Office handling the complaint will respond to the complaint in a manner appropriate to the nature and extent of the complaint. Examples of appropriate responses include personal contacts via letter or telephone, form letters, errata notices, press releases, or mass mailings that correct a widely disseminated error or address a frequently raised complaint.

3. Right To Appeal

If the person who requested correction does not agree with the initial decision (including corrective action, if any), the person may file an application for review by the SSS within 30 days of the date of the notification of action on the complaint or the corrective action. Applications for review must be submitted in writing to the SSS, Office of the Director, 1515 Wilson Blvd., Arlington, Virginia, 22209-2425. E-mail copies of the written appeal may be sent, beginning October 1, 2002, to Information@sss.gov.

A. The written appeal must include a copy of the original complaint and the response thereto, and an explanation of how the initial resolution of the complaint or the corrective action was contrary to the SSS' or OMB's information quality guidelines.

B. Applications for review will be resolved within 120 days. The SSS, in appropriate cases, may deny an application for review without providing reasons.

V. Reporting Requirements

1. On an annual fiscal-year basis, the SSS shall submit a report to the Director of OMB providing information (both quantitative and qualitative, where appropriate) on the number and nature of complaints received regarding compliance with OMB guidelines, and how such complaints were resolved.

2. The report shall be submitted no later than January 1 of each following year.

3. The first report shall be submitted by January 1, 2004.

VI. Effective Dates

1. Pre-dissemination review under section III, above, shall apply to information dissemination products that the SSS first disseminates on or after October 1, 2002.

2. The administrative mechanisms noted in section IV shall apply only to information dissemination products that the SSS disseminates on or after October 1, 2002, regardless of when the SSS first disseminated the information.

_____

Guidelines for Ensuring and Maximizing the Quality, Objectivity, Utility, and Integrity of Information Disseminated by Federal Agencies, 66 FR 49718 (Sept. 28, 2001) (interim final guidelines), and 67 FR 369 (Jan. 3, 2002) (final guidelines), corrected, 67 FR 5365 (Feb. 5, 2002), reprinted correcting errors, 67 FR 8452 (Feb. 22, 2002) (collectively referred to as “OMB Guidelines”).

Dated: May 30, 2002.
Norman W. Miller,
Chief Information Officer.

[FR Doc. 02-14029 Filed 6-4-02; 8:45 am]

BILLING CODE 8015-01-P